DEPARTMENT OF THE INTERIOR

National Park Service

[NPS-WASO-NAGPRA-NPS0036586; PPWOCRADN0-PCU00RP14.R50000]

Notice of Intent To Repatriate Cultural Items: University of California, Berkeley, Berkeley, CA

AGENCY: National Park Service, Interior.

ACTION: Notice.

SUMMARY: In accordance with the Native American Graves Protection and Repatriation Act (NAGPRA), the University of California, Berkeley intends to repatriate certain cultural items that meet the definition of objects of cultural patrimony and that have a cultural affiliation with the Indian Tribes or Native Hawaiian organizations in this notice. The cultural items were removed from Sutter County, Yuba County, and western Placer County, CA.

DATES: Repatriation of the cultural items in this notice may occur on or after October 19, 2023.

ADDRESSES: Alexandra Lucas, Repatriation Coordinator, Government and Community Relations (Chancellor's Office), University of California, Berkeley. 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley. The National Park Service is not responsible for the determinations in this notice. Additional information on the determinations in this notice, including the results of consultation, can be found in the summary or related records held by the University of California, Berkeley.

Description

During the period from 1864 through 1957, 13 objects of cultural patrimony were removed from multiple identified sites in western Placer County, CA—CA-Pla-14, CA-Pla-17, CA-Pla-39, CA-Pla-4, and CA-Pla-414—and nine unknown locations in that county. Through 12 separate accessions, these objects were donated to the Lowie Museum (Phoebe A. Hearst Museum of Anthropology) at the University of California, Berkeley, by Darius Ogden Mills, Ellinor C. Davidson, Elmer J. Dawson, Franklin Fenenga, Robert Fleming Heizer, John Campbell Merriam, L. M. Layton, Loring J. Barker, Mrs. J. C. Hawver, the National Park Service, and Ralph L. Beals, as well as through the University of California Archaeological Survey, University appropriation, and other University collections. The 13 objects of cultural patrimony are one lot consisting of beads, one lot consisting of cartridges, one lot consisting of ceramics and glass, one lot consisting of clothing and textile components, one lot consisting of faunal remains, one lot consisting of floral remains, one lot consisting of metal, one lot consisting of nails, one lot consisting of ornaments, one lot consisting of plastic fragments, one lot consisting of shells, one lot consisting of worked faunal bones, and one lot consisting of worked and unworked stone.

During the period from sometime before 1881 through 1949, four objects of cultural patrimony were removed from multiple identified sites in Sutter County, CA—CA-Sut-10, CA-Sut-16, CA-Sut-5—and six unknown locations in that county. Through seven separate accessions, these objects were donated to the Lowie Museum by A. J. Blakeley, Clement W. Meighan, J. J. Coats, Jeremiah B. Lillard, and the Sacramento County Board of Education, as well as through the California Archaeological Survey, other University Collections, and University appropriation. The four lots of objects of cultural patrimony are one lot consisting of beads, one lot consisting of charmstones, one lot consisting of worked faunal bones, and one lot consisting of worked stone.

During the period 1860 through 1966, four objects of cultural patrimony were removed from multiple identified sites in Yuba County, CA—CA-Yub-10, CA-Yub-11, CA-Yub-12, CA-Yub-8, CA-Yub-9—and six unknown locations in that county. Through 12 separate accessions, these objects were donated to the Lowie Museum by Aileen W. Foulk, Bill Sundahl, Raymond Whiteley, C. M. Goethe, Geoffrey B. Bodman, Jeremiah B. Lillard, the Sacramento County Board of Education, John Campbell Merriam, and Stuart C. Way, as well as through University appropriation and other University collections. The four objects of cultural patrimony are one lot consisting of beads, one lot consisting of ornaments and pendants, one lot consisting of worked faunal bones, and one lot consisting of worked and unworked stone.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical, linguistic, and expert opinion (in the form of Tribal traditional knowledge).

Determinations

Pursuant to NAGPRA and its implementing regulations, and after consultation with the appropriate Indian Tribes and Native Hawaiian organizations, the University of California, Berkeley has determined that:

• The 21 lots of cultural items described above have ongoing historical, traditional, or cultural importance central to the Native American group or culture itself, rather than property owned by an individual.

• There is a relationship of shared group identity that can be reasonably traced between the cultural items and the United Auburn Indian Community of the Auburn Rancheria of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 19, 2023. If competing requests for repatriation are received, the University of California, Berkeley must determine the most appropriate requestor prior to repatriation. Requests for joint repatriation of the cultural items are considered a single request and not competing requests. The University of California, Berkeley is responsible for sending a copy of this notice to the Indian Tribe identified in this notice.

Authority: Native American Graves Protection and Repatriation Act, 25 U.S.C. 3003, and the implementing regulations, 43 CFR 10.8, § 10.10, and § 10.14.

Dated: September 11, 2023.
Melanie O'Brien,
Manager, National NAGPRA Program.

[FR Doc. 2023-20191 Filed 9-18-23; 8:45 am]

BILLING CODE 4312-52-P